DEPARTMENT OF VETERANS AFFAIRS

Research Advisory Committee on Gulf War Veterans' Illnesses; Notice of Meeting

The Department of Veterans Affairs (VA) gives notice under the Federal Advisory Committee Act, 5 U.S.C. App. 2, that the Research Advisory Committee on Gulf War Veterans' Illnesses will conduct a telephone conference call meeting from 2:00 p.m. to 5:00 p.m. on Monday, March 19, 2014. The toll-free number for the meeting is (800) 767-1750, and the access code is 56978#. The meeting is open to the public.

The purpose of the Committee is to provide advice and make recommendations to the Secretary of Veterans Affairs on proposed research studies, research plans, and research strategies relating to the health consequences of military service in the Southwest Asia theater of operations during the Gulf War.

The Committee will discuss its 2014 Committee report. The session will also include discussion of other Committee business and activities.

A 30-minute time period will be reserved at 4:30 p.m. for public comments. Individuals who wish to address the Committee are invited to submit a 1-2 page summary of their comments for inclusion in the official meeting record. Members of the public may also submit written statements for the Committee's review to Dr. Roberta White by email at rwhite@bu.edu.

Any member of the public seeking additional information should contact Dr. White, Scientific Director, at (617) 638-4620 or Dr. Victor Kalasinsky, Designated Federal Officer, at (202) 443-5682 or by email at victor.kalasinsky@va.gov.

Dated: February 25, 2014.
Rebecca Schiller,
Advisory Committee Management Officer.

[FR Doc. 2014-09021 Filed 4-18-14; 8:45 am]

BILLING CODE 8320-01-P